DEPARTMENT OF TRANSPORTATION

Federal Aviation Administration

Seventy First RTCA SC-135 Environmental Testing Plenary

AGENCY: Federal Aviation Administration, U.S. Department of Transportation.

ACTION: Seventy First RTCA SC-135 Environmental Testing Plenary.

SUMMARY: The FAA is issuing this notice to advise the public of a meeting of Seventy First RTCA SC-135 Environmental Testing Plenary.

DATES: The meeting will be held October 26-27, 2017 9:00 a.m.-5:00 p.m.

ADDRESSES: The meeting will be held at: National Institute for Aviation Research, 4000 E. 17th St. N., Wichita, KS 67208. Registration is require for this plenary.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Seventy First RTCA SC-135 Environmental Testing Plenary. The agenda will include the following:

October 26-27, 2017—9:00 p.m.-5:00 p.m.

1. Chairmen's Opening Remarks, Introductions.

2. Approval of Summary From the Sixty-Ninth Meeting—(RTCA Paper No. XX-17/SC135-XXX).

3. Approval of Summary From the Seventieth Meeting—(RTCA Paper No. XX-17/SC135-XXX).

4. Review Working Group Summaries.

5. Review Ground Based Task Group Summary.

6. Review Schedule.

7. New/Unfinished Business.

8. Establish Date for Next SC-135 Meeting.

9. Closing.

Attendance is open to the interested public but limited to space availability. Registration is required to attend this event. With the approval of the chairman, members of the public may present oral statements at the meeting. Persons wishing to present statements or obtain information should contact the person listed in the FOR FURTHER INFORMATION CONTACT section. Members of the public may present a written statement to the committee at any time.

Issued in Washington, DC, on October 4, 2017.
Mohannad Dawoud,
Management & Program Analyst, Partnership Contracts Branch, ANG-A17, NextGen, Procurement Services Division, Federal Aviation Administration.

[FR Doc. 2017-21718 Filed 10-6-17; 8:45 am]

BILLING CODE 4910-13-P